CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed Opportunity Youth Evaluation Bundling study. The primary purpose of the study is to conduct an outcome evaluation on the common interventions of select AmeriCorps State and National grantees engaging opportunity youth as AmeriCorps members. The project is an effort to generate rigorous outcome evidence, leverage limited evaluation resources, and build the evaluation capacity of smaller AmeriCorps State and National grantees. Collection of this data is not required for obtaining grant funding support from CNCS.

Copies of the information collection request can be obtained by contacting the office listed in the ADDRESSES section of this Notice.

DATES: Written comments must be submitted to the individual and office listed in the ADDRESSES section by March 31, 2015.

ADDRESSES: You may submit comments, identified by the title of the information collection activity, by any of the following methods:

(1) By mail sent to: Corporation for National and Community Service, Office of Research and Evaluation; Attention Adrienne DiTommaso, Research Analyst, 10th floor, 10902A; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Adrienne DiTommaso, 1-202-606-3611, or by email at aditommaso@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The primary purpose of the study is to conduct an outcome evaluation on the common interventions of select AmeriCorps State and National grantees engaging opportunity youth as AmeriCorps members. The project is an effort to generate rigorous outcome evidence, leverage limited evaluation resources, and build the evaluation capacity of smaller AmeriCorps State and National grantees. At the same time, it is an effort to test a new evaluation approach that has the potential to enhance the ability of any small program to gather and utilize outcome data. Collection of this data is not required for obtaining grant funding support from CNCS.

Current Action

This is a new information collection request. This study would administer a 15 minute, online or telephone survey to opportunity youth who are engaged as AmeriCorps members in select programs participating in the study. Additionally, a statistically matched comparison group of opportunity youth not engaged as AmeriCorps members would receive the survey. The survey consists of three sections of questions querying respondents about educational attainment, employment status, and civic engagement, intending to assess educational, employment and civic engagement outcomes achieved as a result of participating in the AmeriCorps program.

Type of Review: New.

Agency: Corporation for National and Community Service.

Title: Opportunity Youth Evaluation Bundling project.

OMB Number: None.

Agency Number: None.

Affected Public: Opportunity youth engaged in select AmeriCorps State and National programs, and a group of statistically matched comparison youth not participating in an AmeriCorps State and National program.

Total Respondents: 640.

Frequency: Three times.

Average Time per Response: Averages 15 minutes.

Estimated Total Burden Hours: 480.

Total Burden Cost (capital/startup): None.

Total Burden Cost (operating/maintenance): None.

Comments submitted in response to this notice will be summarized and/or included in the request for Office of Management and Budget approval of the information collection request; they will also become a matter of public record.

Dated: January 26, 2015.
Steve Plank,
Director of Research and Evaluation, Office of Research and Evaluation.

[FR Doc. 2015-01830 Filed 1-29-15; 8:45 am]

BILLING CODE 6050-28-P